DEPARTMENT OF HEALTH AND HUMAN SERVICES

Centers for Disease Control and Prevention

[60Day-11-11DU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed project or to obtain a copy of the data collection plans and instruments, call the CDC Reports Clearance Officer at 404-639-5960 or send comments to Daniel Holcomb, CDC Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Survey of Prison Healthcare (NSPH) — New—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request includes data collection from identified respondents at the Department of Corrections within each state in the United States and the Federal Bureau of Prisons.

Few national level data exist concerning the administration of health care services in correctional facilities in the United States. National-level data from the health care providers within prison systems are important for a myriad of purposes related to improving prison health and health care. To remedy this gap in knowledge regarding the capacity of prison facilities to deliver medical and mental health services, NCHS in partnership with the Bureau of Justice Statistics (BJS) plans to conduct the National Survey of Prison Healthcare (NSPH). This collection aims to: provide an overall picture of the global structure of healthcare services in prisons in the United States; close gaps in available information about availability, location and capacity of healthcare services provided to inmates; and identify extent to which electronic medical records are utilized within the correctional healthcare system.

NSPH will be a mail survey to a prison official in the Department of Corrections (DOC) within each of the 50 States and Federal Bureau of Prisons (BOP) and will seek facility-level information on the types of healthcare services delivered and the mechanisms used to deliver these services. Following a small pilot test of the questionnaire with 9 prison officials, NSPH will be administered in Fall 2011.

NSPH will collect data on healthcare services including the extent to which services are contracted; staffing; locations (i.e., on- or off-site) of healthcare services and specialty healthcare services; and the types of medical, dental, mental health, and pharmaceutical services provided to inmates. NSPH will collect data on intake physical and mental health assessments practices for inmates; credentials of staff performing screenings; vaccinations against major infectious diseases; and smoking allowances. Discharge planning data collected includes the availability of bridge medications, Medicaid re-enrollment processes, and the number of inmates with mental illness linked to housing prior to release. NSPH will also collect data on how DOCs maintain health records including the format (paper and/or electronic) of specific types of health records.

Potential users of the data collected through NSPH are policy makers, correctional healthcare researchers, mental health researchers, and corrections administrators. Valid and current data on infrastructure, capacity and utilization of healthcare are essential to supporting research and studying the effects of changes in correctional healthcare. Other potential users of these data include universities, research organizations, many in the private sector, foundations, and a variety of users in the print media. There is no cost to respondents other than their time to participate.

Estimated Annualized Burden Hours
Respondents | Form | Number of respondents | Number of responses per respondent | Average burden per response (in hours) | Total burden hours
Prison official in DOC | NSPH Questionnaire | 17 | 1 | 4 | 68
Total |  |  |  |  | 68

Daniel Holcomb,
Reports Clearance Officer, Centers for Disease Control and Prevention.

[FR Doc. 2011-7300 Filed 3-28-11; 8:45 am]

BILLING CODE 4163-18-P